NUCLEAR REGULATORY COMMISSION

Sunshine Act Meeting

Agency Holding the Meeting: Nuclear Regulatory Commission.

Date: Weeks of May 29, June 5, 12, 19, 26, and July 3, 2000.

Place: Commissioner's Conference Room, 11555 Rockville Pike Rockville, Maryland.

Status: Public and Closed.

Matters to be Considered:

Week of May 29

Tuesday, May 30

9:25 a.m. Affirmation Session (Public Meeting) (If needed)

9:30 a.m. Discussion of Intragovernmental Issues (Closed-Ex. 9b)

Week of June 5—Tentative

There are no meetings scheduled for the Week of June 5.

Week of June 12—Tentative

Tuesday, June 13

9:25 a.m. Affirmation Session (Public Meeting) (If needed)

9:30 a.m. Meeting with Organization of Agreement States (OAS) and Conference of Radiation Control Program Directors (CRCPD) (Public Meeting) (Contact: Paul Lohaus, 301-415-3340)

1 p.m. Meeting with Korean Peninsula Energy Development Organization (KEDO) and State Department (Public Meeting) (Contact: Donna Chaney, 301-415-2644)

Week of June 19—Tentative

Tuesday, June 20, 2000

9:25 a.m. Affirmation Session (Public Meeting) (If needed)

9:30 a.m. Briefing on Final Rule—Part 70—Regulating Fuel Cycle Facilities (Public Meeting)

1:30 p.m. Briefing on Risk-Informed Part 50, Option 3 (Public Meeting)

Wednesday, June 21, 2000

10:30 a.m. All Employees Meeting (Public Meeting) (“The Green” Plaza Area)

1:30 p.m. All Employees Meeting (Public Meeting) (“The Green” Plaza Area)

Week of June 26—Tentative

There are not meetings scheduled for the Week of June 26.

Week of July 3—Tentative

There are no meetings scheduled for the Week of July 3.

Note: The schedule for Commission meetings is subject to change on short notice. To verify the status of meetings call (recording)—(301) 415-1292. Contact person for more information: Bill Hill (301) 415-1661.

ADDITIONAL INFORMATION: By a vote of 5-0 on May 25, the Commission determined pursuant to U.S.C. 552b(e) and § 9.107(a) of the Commission's rules that “Affirmation of a: HYDRO RESOURCES, INC., Docket No. 40-8968-ML, MEMORANDUM AND ORDER (Financial Assurance for Decommissioning Issues), LBP-99-13, 49 NRC 233 (March 9, 1999); and MEMORANDUM AND ORDER (Motion to Hold in Abeyance), LBP-99-40 (October 19, 1999); and, b: FINAL RULE: “ELIMINATION OF THE REQUIREMENT FOR NONCOMBUSTIBLE FIRE BARRIER PENETRATION SEAL MATERIALS AND OTHER MINOR CHANGES” (10 CFR PART 50) (WITS 199800128)” (PUBLIC MEETING) be held on May 25, and on less than one week's notice to the public.

The NRC Commission Meeting Schedule can be found on the Internet at: http://www.nrc.gov/SECY/smj/schedule.htm.

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc.gov.

Dated: May 25, 2000.
William M. Hill, Jr.,
SECY Tracking Officer, Office of the Secretary.

[FR Doc. 00-13674 Filed 5-26-00; 12:46 am]

BILLING CODE 7590-01-M